OFFICE OF PERSONNEL MANAGEMENT

Excepted Service

AGENCY: Office of Personnel Management.

ACTION: Notice.

SUMMARY: This gives notice of OPM decisions, granting authority to make appointments under Schedule C in the excepted service as required by 5 CFR 6.1 and 213.103.

FOR FURTHER INFORMATION CONTACT: Pam Shivery, Director, Washington Service Center, Employment Service (202) 606-1015.

SUPPLEMENTARY INFORMATION: Appearing in the listing below are the individual authorities established under Schedule C between between October 01, 2002 and October 31, 2002. Future notices will be published on the fourth Tuesday of each month, or as soon as possible thereafter. A consolidated listing of all authorities as of June 30 is published each year.

Schedule C

Broadcasting Board of Governors

Special Assistant to the Director, International Broadcasting Bureau. Effective October 11, 2002.

Special Assistant to the Director, International Broadcasting Bureau of America. Effective October 23, 2002.

Consumer Product Safety Commission

Director, Office of Congressional Relations to the Chairman. Effective October 4, 2002.

Executive Assistant to the Chairman. Effective October 31, 2002.

Department of Agriculture

Special Assistant to the Administrator, Risk Management Agency. Effective October 18, 2002.

Confidential Assistant to the Administrator, Agricultural Marketing Service. Effective October 24, 2002.

Department of Commerce

Confidential Assistant to the Under Secretary for Intellectual Property and Director of the U.S. Patent and Trademark Office. Effective October 2, 2002.

Senior Advisor to the Under Secretary for Export Administration. Effective October 4, 2002.

Special Assistant to the Assistant Secretary for Communications and Information, National Telecommunications and Information Administration. Effective October 9, 2002.

Senior Policy Advisor to the Assistant to the Secretary and Director, Office of Policy and Planning. Effective October 9, 2002.

Special Assistant to the Director, Advocacy Center. Effective October 17, 2002.

Director of Intergovernmental Affairs to the Assistant Secretary for Legislative and Intergovernmental Affairs. Effective October 22, 2002.

Department of Defense

Special Assistant to the Principal Deputy Under Secretary of Defense (Comptroller), Deputy Under Secretary of Defense (Management Reform). Effective October 10, 2002.

Defense Fellow to the Special Assistant Secretary of Defense (White House Liaison). Effective October 30, 2002.

Department of Education

Special Assistant to the Senior Advisor to the Secretary. Effective October 2, 2002.

Special Assistant to the Director, Faith-Based and Community Initiative Center. Effective October 3, 2002.

Special Assistant to the Director, White House Initiative on Tribal Colleges and Universities. Effective October 15, 2002.

Deputy Assistant Secretary for Policy to the Assistant Secretary for Elementary and Secondary Education. Effective October 22, 2002.

Special Assistant to the Chief Financial Officer. Effective October 23, 2002.

Special Assistant to the Assistant Secretary for Special Education and Rehabilitative Services. Effective October 28, 2002.

Confidential Assistant to the Special Assistant. Effective October 28, 2002.

Department of Energy

Special Assistant to the Director, Office of Economic Impact Diversity. Effective October 1, 2002.

Department of Health and Human Services

Special Assistant to the Commissioner, Food and Drug Administration. Effective October 31, 2002.

Congressional Liaison Specialist to the Deputy Assistant Secretary for Legislation (Congressional Liaison). Effective October 31, 2002.

Department of Housing and Urban Development

Deputy Assistant Secretary for Congressional Relations to the Assistant Secretary for Congressional and Intergovernmental Relations. Effective October 3, 2002.

Special Assistant to the Assistant Secretary for Congressional and Intergovernmental Relations. Effective October 3, 2002.

Deputy Assistant Secretary for Legislation Affairs to the Assistant Secretary for Congressional and Intergovernmental Relations. Effective October 4, 2002.

Special Counsel to the General Counsel. Effective October 31, 2002.

Department of Justice

Special Assistant to the Assistant Attorney General, Civil Rights Division. Effective October 11, 2002.

Department of Labor

Special Assistant to the Assistant Secretary for Disability Employment. Effective October 2, 2002.

Special Assistant to the Director, 21st Century Workforce. Effective October 16, 2002.

Special Assistant to the Administrator for Employment Standards. Effective October 16, 2002.

Department of the Navy (DOD)

Confidential Assistant to the Assistant Secretary of the Navy (Installations and Environment). Effective October 4, 2002.

Department of State

Public Affairs Specialist to the Assistant Secretary for Western Hemisphere Affairs. Effective October 11, 2002.

Public Affairs Specialist to the Assistant Secretary for Public Affairs. Effective October 11, 2002.

Senior Advisor to the Assistant Secretary, Western Hemisphere Affairs. Effective October 11, 2002.

Public Affairs Specialist to the Assistant Secretary for Public Affairs. Effective October 21, 2002.

Staff Assistant to the Deputy Assistant Secretary, Bureau of European and Eurasian Affairs. Effective October 21, 2002.

Department of Transportation

Chief of Staff to the Federal Aviation Administrator. Effective October 18, 2002.

Associate Director to the Assistant Secretary for Governmental Affairs. Effective October 21, 2002.

Deputy Assistant Secretary to the Assistant Secretary for Aviation and International Affairs. Effective October 21, 2002.

Special Assistant to the Director of Scheduling and Advance. Effective October 30, 2002.

Department of the Treasury

Special Assistant to the Chief of Staff. Effective October 8, 2002.

Director of Legislative and Intergovernmental Affairs to the Director of the U.S. Mint. Effective October 17, 2002.

Special Assistant to the Deputy Assistant Secretary for Management and Budget. Effective October 28, 2002.

Deputy Assistant Secretary (Policy Coordination) to the Assistant Secretary for Economic Policy. Effective October 31, 2002.

Department of Veterans Affairs

Special Assistant to the Assistant Secretary for Public and Intergovernmental Affairs. Effective October 28, 2002.

Environmental Protection Agency

Senior Advisor to the Assistant Administrator, Office of Solid Waste and Emergency Response. Effective October 25, 2002.

Congressional Liaison Specialist to the Associate Administrator for Congressional and Intergovernmental Relations. Effective October 28, 2002.

Federal Maritime Commission

Counsel to the Commissioner to the Commissioner. Effective October 28, 2002.

General Services Administration

Senior Advisor to the Regional Administrator, National Capital Regional. Effective October 4, 2002.

National Mediation Board

Confidential Assistant to the Chairman/Board Member. Effective October 25, 2002.

Occupational Safety and Health Review Commission

Confidential Assistant to the Member (Commissioner), Occupational Safety and Health Review Commission. Effective October 28, 2002.

Counsel to the Member (Commissioner). Effective October 28, 2002.

Office of Management and Budget

Confidential Assistant to the Associate Director for Administration. Effective October 31, 2002.

Office of Science and Technology Policy

Confidential Assistant to the Associate Director for Science. Effective October 3, 2002.

Office of the United States Trade Representative

Confidential Assistant to the Deputy, United States Trade Representative. Effective October 7, 2002.

Confidential Assistant to the Chief of Staff. Effective October 17, 2002.

Overseas Private Investment Corporation

Investment Development Associate to the Vice President for Investment Development and Economic Growth. Effective October 24, 2002.

President's Commission on White House Fellowships

Public Relations Coordinator to the Associate Director, President's Commission on White House Fellowships. Effective October 11, 2002.

Securities and Exchange Commission

Confidential Assistant to the General Counsel. Effective October 1, 2002.

Senior Advisor to the Chairman. Effective October 11, 2002.

Small Business Administration

Senior Advisor to the Assistant Administrator for Congressional Affairs. Effective October 11, 2002.

Social Security Administration

Special Assistant to the Deputy Commissioner for Disability and Income Security Programs. Effective October 11, 2002.

Authority: 5 U.S.C. 3301 and 3302; E.O. 10577, 3 CFR 1954-1958 Comp., P.218.

Office of Personnel Management.
Kay Coles James,
Director.

[FR Doc. 02-29849 Filed 11-22-02; 8:45 am]

BILLING CODE 6325-38-P